DEPARTMENT OF COMMERCE

National Oceanic and Atmospheric Administration

[I.D. 033103F]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Fishery Management Plan Environmental Impact Statement Oversight Committee (EIS Oversight Committee) will hold a working meeting, which is open to the public, on the draft Groundfish Programmatic Environmental Impact Statement.

DATES: The EIS Oversight Committee working meeting will occur Tuesday, April 22, 2003, 1 p.m. to 5 p.m. and Wednesday, April 23, 2003, 8 a.m. to close of business on that day.

ADDRESSES: The meeting will be held in the West Conference Room at the Pacific Fishery Management Council office, 7700 NE Ambassador Place, Suite 200, Portland, OR 97220-1384, telephone: (503) 820-2280.

Council address: Pacific Fishery Management Council, 7700 NE Ambassador Place, Suite 200, Portland, OR 97220-1384.

FOR FURTHER INFORMATION CONTACT: Mr. Kit Dahl, NEPA Specialist, (503) 820-2280.

SUPPLEMENTARY INFORMATION: The purpose of the EIS Oversight Committee meeting is to review the status of the draft Programmatic Environmental Impact Statement (PEIS), which will analyze five comprehensive alternatives to the current groundfish management program. These alternatives were developed by the EIS Oversight Committee in 2002 and adopted by the Council in October 2002. The EIS Oversight Committee will review the alternatives, descriptions of the affected environment, bycatch management requirements, proposed analytical methodologies, and other relevant information and documents. The EIS Oversight Committee will advise the drafters and analysts regarding resource indicators, important issues for analysis, schedules for review of draft sections as they are prepared, and other matters relating to preparation of the draft document. The EIS Oversight Committee will report to the Council at its June 2003 meeting.

Although nonemergency issues not contained in the EIS Oversight Committee meeting agenda may come before the committee for discussion, those issues may not be the subject of formal EIS Oversight Committee action during these meetings. EIS Oversight Committee action will be restricted to those issues specifically listed in this document and to any issues arising after publication of this document requiring emergency action under section 305(c) of the Magnuson-Stevens Fishery Conservation and Management Act, provided the public has been notified of the EIS Oversight Committee's intent to take final action to address the emergency.

Special Accommodations

The meeting is physically accessible to people with disabilities. Requests for sign language interpretation or other auxiliary aids should be directed to Ms. Carolyn Porter at (503) 820-2280 at least 5 days prior to the meeting date.

Dated: April 1, 2003.
Theophilus R. Brainerd
Acting Director, Office of Sustainable Fisheries, National Marine Fisheries Service.

[FR Doc. 03-8556 Filed 4-7-03; 8:45 am]

BILLING CODE 3510-22-S